DEPARTMENT OF TRANSPORTATION

Surface Transportation Board

[STB Docket No. AB-337 (Sub-No. 6X)]

Dakota, Minnesota & Eastern Railroad Corporation-Discontinuance of Trackage Rights Exemption-in Worth and Cerro Gordo Counties, IA, and Freeborn County, MN

Dakota, Minnesota & Eastern Railroad Corporation (DM&E) ¹ has filed a verified notice of exemption under 49 CFR 1152 Subpart F—Exempt Abandonments and Discontinuances of Service to discontinue overhead trackage rights over approximately 48.2 miles of Union Pacific Railroad Company (UP) rail lines extending from milepost 107.0 at Hartland, MN, to milepost 119.4 at Albert Lea, MN, and from milepost 251.6 at Albert Lea to milepost 192.8 at Mason City, IA, (the Hartland-Mason City Line), in Freeborn County, MN, and Worth and Cerro Gordo Counties, IA.² The line traverses United States Postal Service Zip Codes 56042, 56007, 56036, 50459, 50448, 50456 and 50401.

¹ DM&E is a wholly owned, indirect subsidiary of Canadian Pacific Railway Company and is a Class II rail carrier.

² DM&E acquired these overhead trackage rights from UP's predecessor, the Chicago and North Western Transportation Company. See Dakota, Minnesota & Eastern Railroad Corporation—Acquisition and Operation Exemption—Chicago and North Western Transportation, Finance Docket No. 30889 (ICC served Sept. 8, 1986).

DM&E has certified that: (1) no local traffic has moved via its trackage rights over the line for at least 2 years; (2) any DM&E overhead traffic can be rerouted over other lines; (3) no formal complaint filed by a user of DM&E rail service on the line (or by a State or local government entity acting on behalf of such user) regarding cessation of service over the line either is pending with the Board or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on July 2, 2009, unless stayed pending reconsideration. Petitions to stay that do not involve environmental issues and formal expressions of intent to file an OFA for continued rail service under 49 CFR 1152.27(c)(2) ³ must be filed by June 12, 2009.⁴ Petitions to reopen must be filed by June 22, 2009, with: Surface Transportation Board, 395 E Street, SW., Washington, DC 20423-0001.

³ Each OFA must be accompanied by the filing fee, which currently is set at $1,500. See 49 CFR 1002.2(f)(25).

⁴ Because this is a discontinuance proceeding and not an abandonment, trail use/rail banking and public use conditions are not appropriate. Likewise, no environmental or historical documentation is required here under 49 CFR 1105.6(c) and 1105.8(b), respectively.

A copy of any petition filed with the Board should be sent to DM&E's representative: Thomas J. Litwiler, Fletcher & Sippel LLC, 29 North Wacker Drive, Suite 920, Chicago, IL 60606.

If the verified notice contains false or misleading information, the exemption is void ab initio.

Board decisions and notices are available on our Web site at http://www.stb.dot.gov.

Decided: May 26, 2009.
By the Board, Rachel D. Campbell, Director, Office of Proceedings.
Kulunie L. Cannon,
Clearance Clerk.

[FR Doc. E9-12720 Filed 6-1-09; 8:45 am]

BILLING CODE 4915-01-P